NUCLEAR REGULATORY COMMISSION

[Docket No. SSD 99-27 ASLBP No. 00-778-06-ML]

Atomic Safety and Licensing Board Panel; Notice of Hearing and of Opportunity to Petition for Leave To Intervene or To Participate as an Interested Governmental Entity (Denial of Sealed Source Registration Application)

July 10, 2000.

Before Administrative Judges: G. Paul Bollwerk, III, Presiding Officer, Frederick J. Shon, Special Assistant

In the Matter of Graystar, Inc., (Suite 103, 200 Valley Road, Mt. Arlington, NJ 07856)

In this proceeding, GrayStar, Inc., (GrayStar) has requested a hearing to challenge the NRC staff's May 24, 2000 determination denying the request of GrayStar, as set forth in its April 19, 1999 application and September 27, 1999 letter, to register the Model GS-42 sealed source and the Model 1 irradiator. By memorandum and order issued June 13, 2000, the Commission referred the GrayStar request to the Atomic Safety and Licensing Board Panel's Chief Administrative Judge for appointment of a Presiding Officer to conduct a 10 CFR Part 2, Subpart L informal adjudicatory proceeding relative to the GrayStar request. See CLI-00-10, 51 NRC __ (Jun. 13, 2000). This Presiding Officer and Special Assistant were appointed on June 16, 2000. See 65 FR 38,867 (2000). By memorandum and order issued this date, the Presiding Officer has granted the GrayStar hearing request.

In light of the foregoing, please take notice that a hearing will be conducted in this proceeding. As noted above, this hearing will be governed by the informal hearing procedures set forth in 10 CFR Part 2, Subpart L (10 CFR 2.1201-.1263) and the parties currently designated in this proceeding are GrayStar and the staff.

Further, in accordance with 10 CFR 2.1205(j), please take notice that within thirty days from the date of publication of this notice of hearing in the Federal Register (1) any person whose interest may be affected by this proceeding may file a petition for leave to intervene; and (2) any interested governmental entity may file a request to participate in this proceeding in accordance with 10 CFR 2.1211(b). Any petition for leave to intervene must set forth the information required by 10 CFR 2.1205(e), including a detailed description of (1) the interest of the petitioner in the proceeding; (2) how that interest may be affected by the results of the proceeding, including the reasons why the petitioner should be permitted to intervene with respect to the factors set forth in 10 CFR 2.1205(h); (3) the petitioner's areas of concern regarding the staff's May 24, 2000 denial of GrayStar's registration application; and (4) the circumstances establishing that the petition to intervene is timely in accordance with 10 CFR 2.1205(d). In accordance with 10 CFR 2.1211(b), any request to participate by an interested governmental entity must state with reasonable specificity the requestor's areas of concern regarding the staff's May 24, 2000 denial of GrayStar's registration application.

In addition, pursuant to 10 CFR 2.1211(a), any person not a party to the proceeding may submit a written limited appearance statement setting forth his or her position on the issues in this proceeding. These statements do not constitute evidence, but may assist the Presiding Officer and/or parties in the definition of the issues being considered. Persons wishing to submit a written limited appearance statement should send it to the Office of the Secretary, U.S. Nuclear Regulatory Commission, Washington, DC. 20555-0001, Attention: Docketing and Service Branch. A copy of the statement also should be served on the Presiding Officer and the Special Assistant.

In the initial order issued this date, the Presiding Officer directed that on or before Tuesday, August 1, 2000, the staff shall file the hearing file for this proceeding. Once the hearing file is received, pursuant to 10 CFR 2.1233 the Presiding Officer will establish a schedule for the filing of written presentations by GrayStar and the staff, which may be subject to supplementation to accommodate the grant of any intervention petition or request to participate by an interested governmental entity. After receiving the parties' written presentations, pursuant to 10 CFR 2.1233(a), 2.1235, the Presiding Officer may submit written questions to the parties or any interested governmental entity or provide an opportunity for oral presentations by any party or interested governmental entity, which may include oral questioning of witnesses by the Presiding Officer.

Documents relating to this proceeding are available for public inspection at the Commission's Public Document Room, the Gelman Building, 2120 L Street, NW., Washington, DC. Additionally, documents relating to this proceeding submitted after November 1, 1999, are available electronically through the NRC's Agencywide Documents Access and Management System (ADAMS), with access to the public through the NRC's Internet Web site Public Electronic Reading Room link at <http://www.nrc.gov/NRC/ADAMS/index.html>. Also, general information regarding the conduct of agency adjudicatory proceedings, including the provisions of 10 CFR Part 2, Subpart L, can be found by accessing the Atomic Safety and Licensing Board Panel's Web site at <http://www.nrc.gov/NRC/ASLBP/homepage.html>.

By the Presiding Officer *.
Dated: Rockville, Maryland, July 10, 2000.
G. Paul Bollwerk, III,
Administrative Judge.

* Copies of this memorandum and order were sent this date by Internet e-mail transmission to counsel for (1) GrayStar; and (2) the staff.

[FR Doc. 00-17882 Filed 7-13-00; 8:45 am]

BILLING CODE 7590-01-P